DEPARTMENT OF TRANSPORTATION

Federal Aviation Administration

14 CFR Part 71

[Docket No. FAA-2020-0823; Airspace Docket No. 20-AAL-49]

RIN 2120-AA66

Amendment To Separate Terminal Airspace Areas From Norton Sound Low, Woody Island Low, Control 1234L, and Control 1487L Offshore Airspace Areas; Alaska

AGENCY: Federal Aviation Administration (FAA), DOT.

ACTION: Final rule.

SUMMARY: This action amends the following Offshore Airspace Areas in Alaska: Norton Sound Low, Woody Island Low, Control 1234L, and Control 1487L. The FAA found an error with the Offshore Airspace Legal Descriptions containing airspace descriptions not related to the need to apply IFR en route Air Traffic Control services in international airspace. This action corrects that error by removing terminal airspace, airspace associated with geographic coordinates, and airspace associated with NAVAIDs from the Offshore Airspace legal descriptions.

DATES: Effective date 0901 UTC, June 17, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267 8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would correct the Offshore Airspace legal descriptions as necessary to preserve the safe and efficient flow of air traffic within the National Airspace System.

History

The FAA published a notice of proposed rulemaking for Docket No. FAA-2020-0823 in the Federal Register (85 FR 59220; September 21, 2020) reversing the final rule for Docket No. FAA-2006-25852 in the Federal Register (72 FR 31714; June 8, 2007; as corrected 72 FR 37430, July 10, 2007) that amended the offshore airspace areas, including: Norton Sound Low, Woody Island Low, Control 1234L, and Control 1487L Offshore Airspace Areas; Alaska, to include terminal airspace previously thought to be excluded in the Code of Federal Regulations. The exclusionary language was misinterpreted including all airspace West of Longitude 160°. The FAA found this interpretation to be in error, as the exclusion only pertains to the area West of Longitude 160° for the Alaskan Peninsula. The Alaskan Peninsula does not include the Aleutian Islands, nor preclude the establishment of airspace under CFR 71.71(c). Additionally, this final rule corrects the final rule for Docket No. FAA-2006-26164 in the Federal Register (72 FR 5611; February 7, 2007) that revoked Class E Airspace for Adak, ATKA, Cold Bay, Nelson Lagoon, Saint George Island, Sand Point, Shemya, St. Paul Island, and Unalaska, AK as it was thought that because these locations were within Control 1234L, they should be contained in the offshore airspace description. This was in error, as offshore airspace cannot be established within 12 nautical miles (NM) of a coastline of the United States (U.S.). This action corrects these errors. Interested parties were invited to participate in this rulemaking effort by submitting written comments on the proposal. No significant comments were received.

Offshore Airspace Areas are published in 6007, and Class E Airspace Areas Designated as Surface Areas, and Class E Airspace Areas Extending Upward from 700 feet or More Above the Surface of the Earth, are published in paragraph 6002 and 6005, of FAA Order 7400.11E dated July 21, 2020, and effective September 15, 2020, which is incorporated by reference in 14 CFR 71.1. The Offshore Airspace Areas, Class E Airspace Areas Designated as Surface Areas, and Class E Airspace Areas Extending Upward from 700 feet or More Above the Surface of the Earth listed in this document will be subsequently published in the Order.

Differences From the NPRM

In the NPRM published in the Federal Register (85 FR 59220; September 21, 2020) proposal and amendment sections, the FAA proposed a technical amendment to 33 terminal facilities, five navigational aids (NAVAIDS), and three sets of geographic coordinate assigned airspace in the Offshore Airspace areas legal descriptions contained in FAA Order 7400.11 Section 6007, 6002, and 6005. After further review, the FAA identified that 10 facilities (Chevak, AK; Chignik, AK; King Salmon, AK; Kodiak, AK; Manokotak, AK; Nome, AK; Perryville, AK; Shaktoolik, AK; St. Michael, AK; and Tooksook Bay, AK) and five navigation aids (Biorka Island, AK; Glacier River, AK; Middleton Island, AK; Nome, AK; and Kotzebue, AK) contained language in the legal description excluding airspace beyond 12 NM from the coastline. The FAA determined that Air Traffic Facilities are using Terminal Arrival Areas (TAA) for most of the approaches associated with these locations. These TAAs cover 30 NM from an established waypoint and extend into offshore airspace beyond 12 NM from the coastline. If the exclusionary language were allowed to take effect, these areas would be without controlled airspace. In addition, some of these locations are further constrained because the airspace beyond 12 NM provides airspace for Missed Approach holding and vectoring of aircraft from an airway to the Initial Approach Fix and the terminal environment. The FAA determined that these locations should be retained in the associated Offshore Airspace Areas to provide the airspace needed for these operations until an airspace review can be conducted and these procedures safely be brought into compliance, while maintaining the required controlled airspace. This rule corrects this error in the Rule section.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This action amends 14 CFR part 71 by amending the technical language contained in the legal descriptions for the Norton Sound Low, Woody Island Low, Control 1234L, and Control 1487L Offshore Airspace areas by removing the terminal facilities, NAVAIDS, and geographic coordinate assigned airspace contained in FAA Order 7400.11. The vertical and lateral boundaries will remain as published.

Additionally, the FAA defines the legal descriptions of the terminal facilities in section 6002 and 6005 in FAA Order 7400.11. The Airspace actions are described below.

Shemya, AK: Shemya is currently published in Control 1234L as Eareckson AS. This action removes Eareckson AS description from Control 1234L legal description and adds it to section 6005 in FAA Order 7400.11, labeled under the correct identifier as Shemya, AK. The action will retain the same legal description for the Class E5 airspace.

Adak, AK: Adak, AK is currently published in the Control 1234L legal description. This action removes the Class E legal description from Control 1234L and relocates it to section 6005 with no change to the boundaries.

Atka, AK: Atka, AK is currently published in the Control 1234L legal description. This action removes the Atka, AK Class E legal description from Control 1234L and relocates it in section 6005 with no change to the boundaries.

Cold Bay, AK: Cold Bay, AK is currently published in the Control 1234L legal description. This action removes the Cold Bay Class E2 and E5 legal descriptions from Control 1234L and relocates them to sections 6002 and 6005 with no changes to the boundaries.

Nikoloski, AK: Nikoloski, AK is currently published in the Control 1234L legal description. This action removes the Nikoloski, AK Class E legal description from Control 1234L and relocates it to section 6005 with no change to the boundaries.

Manokotak, AK: Manokotak, AK is currently published in the Norton Sound Low, and Control 1234L legal descriptions. It is also published in section 6005 twice, and one contains inaccurate information in the legal description. This action removes the duplicate and inaccurate legal description and amends the text header to remove the word New from Manokotak/New Airport and reflects the proper airport identification.

Clarks Point, AK: Clarks Point, AK is currently published in the Norton Sound Low, and Control 1234L legal descriptions. This action removes the Clarks Point, AK Class E legal description from the Norton Sound Low and Control 1234L and retains it to section 6005 with no change to the boundaries.

Port Heiden, AK: Port Heiden, AK is currently published in the Norton Sound Low, Woody Island Low, and Control 1234L legal description. This action removes the Port Heiden, AK Class E legal description from Norton Sound Low, Woody Island Low, and Control 1234L and retains it to section 6005 with no change to the boundaries.

St. George, AK: St. George, AK is currently published in the Control 1234L legal description. This action removes the St. George, AK Class E legal description from Control 1234L and relocates it to section 6005 with no change to the boundaries.

St. Paul Island, AK: St. Paul Island, AK is currently published in the Control 1234L legal description. This action removes the St. Paul Island Class E legal description from Control 1234L and relocates it to section 6005 with no change to the boundaries.

Unalaska, AK: Unalaska, AK is currently published in the Control 1234L legal description. This action removes the Unalaska Class E legal description from Control 1234L and relocates it to section 6005 with an administrative change correcting the word “bearing” to “radial” and adding the reference for the Dutch Harbor Non-directional Beacon (NDB), AK. The rest of the airspace legal description remains unchanged.

Sand Point, AK: Sand Point, AK is currently published in the Control 1234L legal description. This action removes the Sand Point Class E legal description from Control 1234L and relocates it to section 6005 with administrative changes correcting “either” to “each”, “mail” to “mile”, and adding the reference to Borland NDB/Distance Measuring Equipment (DME). The rest of the legal description remains unchanged.

King Cove, AK: King Cove, AK is currently published in the Control 1234L legal description. This action removes the King Cove Class E legal description from Control 1234L and relocates it to section 6005 with an administrative correction, changing “either” to “each”, with no change to the boundaries.

Nelson Lagoon, AK: Nelson Lagoon, AK is currently published in the Control 1234L legal description. This action removes the Nelson Lagoon Class E legal description from Control 1234L and relocates it to section 6005 with no change to the boundaries.

Elim, AK: Elim, AK is currently published in the Norton Sound Low legal description. This action removes the Elim, Class E legal description from the Norton Sound Low and relocates it to section 6005 with no change to the boundaries.

Hooper Bay, AK: Hooper Bay, AK is currently published in the Norton Sound Low legal description. This action removes the Hooper Bay Class E legal description from Norton Sound Low and relocates it to section 6005 with no change to the boundaries.

Kivalina, AK: Kivalina, AK is currently published in the Norton Sound Low legal description. This action removes the Kivalina Class E legal description from Norton Sound Low and corrects the legal description contained in section 6005, replacing the word either to each, removing the duplicate name header in line two, with no changes to the boundaries.

Kwethluk, AK: Kwethluk, AK is currently published in the Norton Sound Low legal description. This action removes the Kwethluk Class E legal description from Norton Sound Low and corrects the legal description located in section 6005 with an administrative change, removing the duplicate name header in line two, with no change to the boundaries.

Napakiak, AK: Napakiak, AK is currently published in the Norton Sound Low legal description. This action removes the Napakiak Class E legal description from Norton Sound Low and corrects the legal description located in section 6005 with an administrative change, correcting duplicate name in heading line two with no change to the boundaries.

New Stuyahok, AK: New Stuyahok, AK is currently published in the Norton Sound Low legal description. This action removes the New Stuyahok Class E legal description from Norton Sound Low and corrects the legal description contained in section 6005 with an administrative change, removing the duplicate name in heading line two with no change to the boundaries.

Noatak, AK: Noatak, AK is currently published in the Norton Sound Low legal description. This action removes the Noatak Class E legal description from Norton Sound Low and retains it in section 6005 with no change to the boundaries.

Red Dog, AK: Red Dog, AK is currently published in the Norton Sound Low legal description. This action removes the Red Dog Class E legal description from Norton Sound Low and corrects the legal description contained in section 6005 with an administrative change correcting the word “either” to “each” with no change to the boundaries.

Scammon Bay, AK: Scammon Bay, AK is currently published in the Norton Sound Low legal description. This action removes the Scammon Bay Class E legal description from Norton Sound Low and corrects the legal description located in section 6005 with an administrative change correcting the word “either” to “each” with no change to the boundaries.

Selawik, AK: Selawik, AK is currently published in the Norton Sound Low legal description. This action removes the Selawik Class E legal description from Norton Sound Low and corrects the legal description located in section 6005 with an administrative change removing the duplicate name in heading line two with no change to the boundaries.

Homer, AK: Homer, AK is currently published in the Control 1487L legal description. This action removes the Homer Class E legal description from Control 1487L and retains the legal description located in section 6005 with an administrative change correcting the word “either” to “each” with no change to the boundaries.

Anchorage, AK: Anchorage, AK is currently published in the Control 1487L legal description. This action removes the Anchorage Class E from Control 1487L and retains the legal description in section 6005 with no change to the boundaries.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of amending legal descriptions for certain Offshore Airspace Areas in Alaska to separate Terminal Airspace Areas from Norton Sound Low, Woody Island Low, Control 1234L, and Control 1487L Offshore Airspace Areas; Alaska qualifies for categorical exclusion under the National Environmental Policy Act (42 U.S.C. 4321 et seq) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020 and effective September 15, 2020, is amended as follows:

Paragraph 6007—Offshore Airspace Areas.

* * * * *

Control 1234L, AK [Amended]

That airspace extending upward from 2,000 feet above the surface within an area bounded by a line beginning at lat. 58°06′57″ N, long. 160°00′00″ W, then south along 160°00′00″ W longitude, until it intersects the Anchorage Air Route Traffic Control Center (ARTCC) boundary; then southwest, northwest, north, and northeast along the Anchorage ARTCC boundary to lat. 62°35′00″ N, long. 175°00′00″ W, to lat. 59°59′57″ N, long. 168°00′08″ W, to lat. 57°45′57″ N, long. 161°46′08″ W, to the point of beginning.

* * * * *

Norton Sound Low, AK [Amended]

That airspace extending upward from 14,500 feet MSL within an area bounded by a line beginning at lat. 56°42′59″ N, long. 160°00′00″ W, then north along a line 12 miles from and parallel to the U.S. coastline to the intersection with 164°00′00″ W, longitude near the outlet to Kotzebue Sound, then north to the intersection with a point 12 miles from the U.S. coastline, then north along a line 12 miles from and parallel to the shoreline to lat. 68°00′00″ N, long. 168°58′23″ W, to lat. 65°00′00″ N, long. 168°58′23″ W, to lat. 62°35′00″ N, long. 175°00′00″ W, to lat. 59°59′57″ N, long. 168°00′08″ W, to lat. 57°45′57″ N, long. 161°46′08″ W, to lat. 58°06′57″ N, long. 160°00′00″ W, to the point of beginning; and that airspace extending upward from 1,200 feet MSL north of the Alaska Peninsula and east of 160° W longitude within an 81.2-mile radius of the Perryville Airport, AK, and north of the Alaska Peninsula and east of 160° W longitude and within a 35-mile radius of lat. 60°21′17″ N, long. 165°04′01″ W, and within a 73-mile radius of the Chevak Airport, AK, and within a 73-mile radius of the King Salmon Airport, AK, and within a 74-mile radius of the Kotzebue VOR/DME, AK, and within a 74-mile radius of the Manokotak Airport, AK, and within a 77.4-mile radius of the Nome VORTAC, AK, and within a 73-mile radius of the Shaktoolik Airport, AK, and within a 73-mile radius of the St. Michael Airport, AK, and within a 73-mile radius of the Toksook Bay Airport, AK.

* * * * *

Woody Island Low, AK [Amended]

That airspace extending upward from 14,500 feet MSL within the area bounded by a line beginning at lat. 53°30′00″ N, long. 160°00′00″ W, to lat. 56°00′00″ N, long. 153°00′00″ W, to lat. 56°45′42″ N, long. 151°45′00″ W, to lat. 58°19′58″ N, long. 148°55′07″ W, to lat. 59°08′34″ N, long. 147°16′06″ W, then clockwise via the 149.5-mile radius from the Anchorage VOR/DME, AK, to the intersection with a point 12 miles from and parallel to the U.S. coastline, then southwest by a line 12 miles from and parallel to the U.S. coastline to the intersection with 160°00′00″ W longitude, to the point of beginning; and that airspace extending upward from 1,200 feet MSL, extending south and east of the Alaska Peninsula within a 72.8-mile radius of Chignik Airport, AK, and outside (south) of the 149.5-mile radius of the Anchorage VOR/DME, AK, and within a 42-mile radius of the Middleton Island VOR/DME, AK, and south and east of the Alaska Peninsula within an 81.2-mile radius of Perryville Airport, AK.

* * * * *

Control 1487L [Amended]

That airspace extending upward from 8,000 feet MSL within 149.5 miles of the Anchorage VOR/DME clockwise from the 090° radial to the 185° radial of the Anchorage VOR/DME, AK; and that airspace extending upward from 5,500 feet MSL within the area bounded by a line beginning at lat. 58°19′58″ N, long. 148°55′07″ W; to lat. 59°08′34″ N, long. 147°16′06″ W; thence counterclockwise via the 149.5-mile radius of the Anchorage VOR/DME, AK, to the intersection with a point 12 miles from and parallel to the U.S. coastline; thence southeast 12 miles from and parallel to the U.S. coastline to a point 12 miles offshore on the Vancouver FIR boundary; to lat. 54°32′57″ N, long. 133°11′29″ W; to lat. 54°00′00″ N, long. 136°00′00″ W; to lat. 52°43′00″ N, long. 135°00′00″ W; to lat. 56°45′42″ N, long. 151°45′00″ W; to the point of beginning; and that airspace extending upward from 1,200 feet MSL within the area bounded by a line beginning at lat. 59°33′25″ N, long. 141°03′22″ W; thence southeast 12 miles from and parallel to the U.S. coastline to lat. 58°56′18″ N, long. 138°45′19″ W; to lat. 58°40′00″ N, long. 139°30′00″ W; to lat. 59°00′00″ N, long. 141°10′00″ W; to the point of beginning, and within an 85-mile radius of the Biorka Island VORTAC, AK, and within a 42-mile radius of the Middleton Island VOR/DME, AK, and within a 30-mile radius of the Glacier River NDB, AK, and within a 149.5-mile radius of the Anchorage VOR/DME, AK and within a 73-mile radius of the Kodiak Airport, AK; and that airspace extending upward from 700 feet MSL within 14 miles of the Biorka Island VORTAC, AK, and within 4 miles west and 8 miles east of the Biorka Island VORTAC 209° radial extending to 16 miles southwest of the Biorka Island VORTAC, AK.

* * * * *

Paragraph 6002—Class E Airspace Areas Designated as Surface Areas.

* * * * *

AAL AK E2 Cold Bay, AK [New]

Cold Bay, AK

(Lat. 55°12′21″ N, long. 162°43′35″ W)

That airspace extending upward from the surface within a 4.6-mile radius of Cold Bay Airport, AK, and within 1.7 miles each side of the 150° bearing from the airport, extending from the 4.6-mile radius to 7.7 miles southeast and within 3 miles west and 4 miles east of the 335° bearing from the airport extending from the 4.6-mile radius to 12.2 miles northwest.

* * * * *

Paragraph 6005—Class E Airspace Areas Extending Upward From 700 Feet or More Above the Surface of the Earth.

* * * * *

AAL AK E5 Shemya, AK [New]

Eareckson AS, AK

(52°42′44″ N, long. 174°06′49″ E)

That airspace extending upward from 700 feet above the surface within a 6.9-mile radius of Eareckson Air Station, AK and that airspace extending upward from 1,200 feet above the surface within a 26.2-mile radius of Eareckson Air Station, AK.

* * * * *

AAL AK E5 Adak, AK [New]

Adak Airport, AK

(Lat. 51°53′01″ N, long. 176°38′33″ W)

Mount Moffett NDB/DME

(Lat. 51°52′19″ N, long. 176°40′334″ W)

That airspace extending upward from 700 feet above the surface within a 7-mile radius of Adak Airport, AK and within 5.2 miles northwest and 4.2 miles southeast of the 061° radial from the Mount Moffett NDB/DME extending from the 7-mile radius to 11.5 miles northeast and that airspace extending upward from 1,200 feet above the surface within an 11-mile radius of Adak Airport, AK and within 16 miles of Adak Airport extending clockwise from the 033° radial to the 081° radial from the Mount Moffett NDB/DME.

* * * * *

AAL AK E5 Atka, AK [New]

Atka Airport, AK

(Lat. 52°13′14″ N, long. 174°12′22″ W)

That airspace extending upward from 700 feet above the surface within a 6.4-mile radius of the Atka Airport, AK and that airspace extending upward from 1,200 feet above the surface within a 10-mile radius of Atka Airport, AK.

* * * * *

AAL AK E5 Cold Bay, AK [New]

Cold Bay, AK

(Lat. 55°12′21″ N, long. 162°43′35″ W)

That airspace extending upward from 1,200 feet above the surface within a 10.6-mile radius of Cold Bay Airport, AK, and within 9 miles east and 4.3 miles west of the 321° bearing from the Airport extending from the 10.6-mile radius to 20 miles northwest, and that airspace 4 miles each side of the 070° bearing from Cold Bay Airport, AK, extending from the 10.6-mile radius to 13.6 miles northeast,

* * * * *

AAL AK E5 Nikolski, AK [New]

Nikolski AS, AK

(Lat. 52°56′30″ N, long. 168°50′57″ W)

That airspace extending upward from 700 feet above the surface within a 6.3-mile radius of the Nikolski AS, AK and that airspace extending upward from 1,200 feet above the surface within a 73-mile radius of the Nikolski AS, AK.

* * * * *

AAL AK E5 Manokotak, AK [Removed]

* * * * *

AAL AK E5 Manakotak, AK [Amended]

Manakotak Airport, AK

(Lat. 58°55′55″ N, long. 158°54′07″ W)

That airspace extending upward from 700 feet above the surface within a 6.4-mile radius of Manokotak Airport, AK; and that airspace extending upward from 1,200 feet above the surface within a 74-mile radius of Manokotak Airport, AK, excluding that airspace extending beyond 12 miles of the shoreline.

* * * * *

AAL AK E5 St. George, AK [New]

St. George Airport, AK

(Lat. 56°34′39″ N, long. 169°39′49″ W)

That airspace extending upward from 700 feet above the surface within a 6.6-mile radius of the St. George Airport, AK and that airspace extending upward from 1,200 feet above the surface within a 10-mile radius of St. George Airport, AK.

* * * * *

AAL AK E5 St. Paul Island, AK [New]

St. Paul Island, Airport, AK

(Lat. 57°09′59″ N, long. 170°13′21″ W)

That airspace extending upward from 700 feet above the surface within an 8-mile radius of St. Paul Island Airport, AK, and 8 miles west and 6 miles east of the 360° bearing from St. Paul Island Airport, AK, to 14 miles north of St. Paul Island Airport, AK, and within 6 miles west and 8 miles east of the 172° bearing from St. Paul Island Airport, AK, to 15 miles south of St. Paul Island Airport, AK, and that airspace extending upward from 1,200 feet above the surface within a 73-mile radius of St. Paul Island Airport, AK.

* * * * *

AAL AK E5 Unalaska, AK [New]

Unalaska Airport, AK

(Lat. 53°53′56″ N, long. 166°32′42″ W)

Dutch Harbor NDB

(Lat. 53°54′19″ N, long. 166°32′52″ W)

That airspace extending upward from 700 feet above the surface within a 6.4-mile radius of the Unalaska Airport, AK and within 2.9 miles each side of the 360° radial from the Dutch Harbor NDB, AK, extending from the 6.4-mile radius of Unalaska Airport, AK, to 9.5 miles north of Unalaska Airport, AK; and that airspace extending upward from 1,200 feet above the surface within a 20-mile radius of Unalaska Airport, AK, extending clockwise from the 305° radial from the Dutch Harbor NDB, AK, to the 075° radial from the Dutch Harbor NDB, AK,

* * * * *

AAL AK E5 Sand Point, AK [New]

Sand Point Airport, AK

(Lat. 55°18′49″ N, long. 160°31′17″ W)

Borland NDB/DME

(Lat. 55°18′56″ N, long. 160°31′6″ W)

That airspace extending upward from 700 feet above the surface within a 6.4-mile radius of Sand Point Airport, AK and within 3 miles each side of the 172° radial from the Borland NDB/DME, AK, extending from the 6.4-mile radius of Sand Point Airport, AK, to 13.9 miles south of Sand Point Airport, AK and within 5 miles each side of the 318° radial from the Borland NDB/DME, AK, extending from the 6.4-mile radius of Sand Point Airport, AK, to 17 miles northwest of Sand Point Airport, AK and within 5 miles either side of the 324° radial from the Borland NDB/DME, AK, extending from the 6.4-mile radius of Sand Point Airport, AK, to 17 miles northwest of the Sand Point Airport, AK, and that airspace extending upward from 1,200 feet above the surface and west of 160° W. longitude within a 25-mile radius of the Borland NDB/DME, AK.

* * * * *

AAL AK E5 King Cove, AK [New]

King Cove Airport, AK

(Lat. 55°06′59″ N, long. 162°15′58″ W)

That airspace extending upward from 700 feet above the surface within a 6.5-mile radius of King Cove Airport, and extending 1.2 miles each side of the 103° bearing from King Cove Airport from the 6.5-mile radius out to 8.8 miles.

* * * * *

AAL AK E5 Nelson Lagoon, AK [New]

Nelson Lagoon Airport, AK

(Lat. 56°0′27″ N, long. 161°9′37″ W)

That airspace extending upward from 700 feet above the surface within a 6.3-mile radius of Nelson Lagoon Airport, AK.

* * * * *

AAL AK E5 Kivalina, AK [Amended]

Kivalina Airport, AK

(Lat. 67°44′10″ N, long. 164°33′49″ W)

That airspace extending upward from 700 feet above the surface within a 6.5-mile radius of the Kivalina Airport, AK, and 3.9 miles each side of the 317° bearing from the Kivalina Airport, AK, extending from the 6.5-mile radius to 11.1 miles northwest of the Kivalina Airport, AK; and that airspace extending upward from 1,200 feet above the surface within a 73-mile radius of the Kivalina Airport, AK.

* * * * *

AAL AK E5 Kwethluk, AK [Amended]

Kwethluk Airport, AK

(Lat. 60°47'25' N, long. 161°26′37″ W)

That airspace extending upward from 700 feet above the surface within a 6.3-mile radius of the Kwethluk Airport, AK; and that airspace extending upward from 1,200 feet above the surface within a 73-mile radius of the Kwethluk Airport, AK.

* * * * *

AAL AK E5 Napakiak, AK [Amended]

Napakiak Airport, AK

(Lat. 60°41′25″ N, long. 161°58′43″ W)

That airspace extending upward from 700 feet above the surface within a 6.3-mile radius of the Napakiak Airport, AK; and that airspace extending upward from 1,200 feet above the surface within an 84-mile radius of the Napakiak Airport, AK.

* * * * *

AAL AK E5 New Stuyahok, AK [Amended]

New Stuyahok Airport, AK

(Lat. 59°27′06″ N, long. 157°22′23″ W)

That airspace extending upward from 700 feet above the surface within a 6.9-mile radius of the New Stuyahok Airport; and that airspace extending upward from 1,200 feet above the surface within a 71-mile radius of the New Stuyahok Airport.

* * * * *

AAL AK E5 Red Dog, AK [Amended]

Red Dog, AK

(Lat. 68°01′56″ N, Long. 162°53′57″ W)

That airspace extending upward from 700 feet above the surface within an 11-mile radius of the Red Dog Airport, AK, and within 4 miles each side of the 219° bearing from the Red Dog Airport, AK, extending from the 11-mile radius to 14.5 miles southwest of the Red Dog Airport, AK; and that airspace extending upward from 1,200 feet above the surface within a 72.5-mile radius of the Red Dog Airport, AK.

* * * * *

AAL AK E5 Scammon Bay, AK [Amended]

Scammon Bay Airport, AK

(Lat. 61°50′40″ N, long. 165°34′25″ W)

That airspace extending upward from 700 feet above the surface within a 6.3-mile radius of Scammon Bay Airport, and within 4 miles each side of the 099° bearing of Scammon Bay Airport extending from the 6.3-mile radius to 11 miles east of the airport; that airspace extending upward from 1,200 feet above the surface with a 73-mile radius of Scammon Bay Airport, AK.

* * * * *

AAL AK E5 Selawik, AK [Amended]

Selawik Airport, AK

(Lat. 66°36′01″ N, long. 159°59′09″ W)

That airspace extending upward from 700 feet above the surface within a 7.3-mile radius of the Selawik Airport; and that airspace extending upward from 1,200 feet above the surface within a 74-mile radius of the Selawik Airport.

* * * * *

AAL AK E5 Homer, AK [Amended]

Homer Airport, AK

(Lat. 59°38′44″ N, long. 151°28′36″ W)

Kachemak NDB

(Lat. 59°38′29″N, long. 151°30′01″ W)

That airspace extending upward from 700 feet above the surface within a 6.7-mile radius of the Homer Airport, AK, and within 4 miles each side of the 055° bearing from the Homer Airport, AK, to 12-miles northeast of the Homer Airport, AK, and within 8-miles north and 4.2-miles south of the Kachemak NDB 235° bearing extending from the Kachemak NDB to 16 miles southwest of the Kachemak NDB; and that airspace extending upward from 1,200 feet above the surface within a 73-mile radius of the Homer Airport, AK.

* * * * *

Issued in Washington, DC, on April 7, 2021.
George Gonzalez,
Acting Manager, Rules and Regulations Group.

[FR Doc. 2021-07432 Filed 4-9-21; 8:45 am]

BILLING CODE 4910-13-P